DEPARTMENT OF ENERGY

Office of Energy Efficiency and Renewable Energy

10 CFR Parts 430 and 431

RIN 1904-AB54

Energy Conservation Standards for Certain Consumer Products and Commercial and Industrial Equipment

Correction

In rule document 05-20701 beginning on page 60407 in the issue of Tuesday, October 18, 2005, make the following corrections:

§ 430.32 [Corrected]

1. On page 60413, in §430.32(u), in the second table, under the first column, in the 12th line, “Lamp Power>20” should read “Lamp Power≥20”.

§ 431.97 [Corrected]

2. On page 60415, in §431.97(b), in the table, in the fourth column, the heading “Efficiency level” should read “Efficiency level†”.

3. On the same page, in the same section, in the same table, in the same column, in the fifth entry, “EER = 1 1.0*” should read “EER = 11.0*”.

4. On the same page, in the same section, in the same table, in the third footnote, “*EER” should read “†EER”.

§ 431.136 [Corrected]

5. On page 60416, in §431.136, the table is corrected to read as follows:

Equipment type | Type of cooling | Harvest rate (lbs ice/24 hours) | Maximum energy use (kWh/100 lbs ice) | Maximum condenser water use * (gal/100 lbs ice)
Ice Making Head | Water | <500 | 7.80-0.0055H | 200-0.022H.
Ice Making Head | Water | ≥500 and <1436 | 5.58-0.0011H | 200-0.022H.
Ice Making Head | Water | ≥1436 | 4.0 | 200-0.022H.
Ice Making Head | Air | <450 | 10.26-0.0086H | Not applicable.
Ice Making Head | Air | ≥450 | 6.89-0.0011H | Not applicable.
Remote Condensing (but not remote compressor) | Air | <1000 | 8.85-0.0038H | Not applicable.
Remote Condensing (but not remote compressor) | Air | ≥1000 | 5.1 | Not applicable.
Remote Condensing and Remote Compressor | Air | <934 | 8.85-0.0038H | Not applicable.
Remote Condensing and Remote Compressor | Air | ≥934 | 5.3 | Not applicable.
Self Contained | Water | <200 | 11. 40-0.019H | 191-0.0315H.
Self Contained | Water | ≥200 | 7.6 | 191-0.0315H.
Self Contained | Air | <175 | 18.0-0.0469H | Not applicable.
Self Contained | Air | ≥175 | 9.8 | Not applicable.
H Harvest rate in pounds per 24 hours.
* Water use is for the condenser only and does not include potable water used to make ice.

[FR Doc. C5-20701 Filed 10-24-05; 8:45 am]

BILLING CODE 1505-01-D